ENVIRONMENTAL PROTECTION AGENCY

[OPP-34225F; FRL-6792-1]

Diazinon; Receipt of Requests For Amendments, and Cancellations

AGENCY: Environmental Protection Agency (EPA).

ACTION: Notice.

SUMMARY: Several companies that manufacture diazinon O,O-diethyl O-(2-isopropyl-6-methyl-4-pyrimidinyl) phosphorothioate pesticide products have asked EPA to cancel or amend the registrations for their end-use products containing diazinon to delete all indoor uses, certain agricultural uses and certain outdoor non-agricultural uses. Pursuant to section 6(f)(1) of the Federal Insecticide, Fungicide, and Rodenticide Act (FIFRA), EPA is announcing the Agency's receipt of these requests. These requests for voluntary termination of the above mentioned uses through registration cancellations or amendments were submitted to EPA in May and June 2001. EPA intends to grant these requests by issuing a cancellation order at the close of the comment period for this announcement unless the Agency receives substantive comments within the comment period that would merit its further review of these requests. Upon the issuance of the cancellation order, any distribution, sale, or use of diazinon products listed in this Notice will only be permitted if such distribution, sale, or use is consistent with the terms of that order.

DATES: Comments on the requested amendments to delete uses and the requested registration cancellations must be submitted to the address provided below and identified by docket control number OPP-34225F. Comments must be received on or before August 31, 2001.

ADDRESSES: Comments may be submitted by mail, electronically, or in person. Please follow the detailed instructions for each method as provided in Unit I. of the SUPPLEMENTARY INFORMATION. To ensure proper receipt by EPA, it is imperative that you identify docket control number OPP-34225F in the subject line on the first page of your response.

FOR FURTHER INFORMATION CONTACT: Ben Chambliss, Special Review and Reregistration Division (7508C), Office of Pesticide Programs, Environmental Protection Agency, 1200 Pennsylvania Ave., NW., Washington, DC 20460; telephone number: (703) 308-8174; fax number: (703) 308-7042; e-mail address: chambliss.ben@epa.gov.

SUPPLEMENTARY INFORMATION: This announcement consists of three parts. The first part contains general information. The second part addresses the registrants' requests for registration cancellations and amendments to delete uses. The third part proposes existing stocks provisions that will be set forth in the cancellation order that the Agency intends to issue at the close of the comment period for this announcement.

I. General Information

A. Does this Action Apply to Me?

This action is directed to the public in general. You may be potentially affected by this action if you manufacture, sell, distribute, or use diazinon products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” “Regulations and Proposed Rules,” and then look up the entry for this document under the “Federal Register—Environmental Documents.” You can also go directly to the Federal Register listings at http://www.epa.gov/fedrgstr/. To access information about the risk assessment for diazinon, go to the Home Page for the Office of Pesticide Programs or go directly http://www.epa.gov/pesticides/op/diazinon.htm.

2. In person. The Agency has established an official record for this action under docket control number OPP-34225F. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-34225F in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket control number OPP-34225F. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Receipt of Requests to Cancel and Amend Registrations to Delete Uses

A. Background

In letters dated April 25 and May 29, 2001 from Prentiss Inc.; May 29, 2001 from Unicorn Laboratories; May 30, 2001 from Micro Flo Company; May 31, 2001 from Agriliance; June 1, 2001 from Micro Flo Company; and June 1, 2001 from Diall Chemical Company, Inc., these registrants of pesticide products containing diazinon requested that the registrations of their diazinon products be amended to terminate all indoor uses, certain agricultural uses, and any other uses that the registrants do not wish to maintain. The requests also included deletions of outdoor non-agricultural uses from the labeling of certain end-use products so that such products would be labeled for agricultural uses only. Similarly, in letters dated May 21, 2001 from Nu-Method Pest Control Products; May 22, 2001 from Lilly Miller Brands; and May 23, 2001 from Virbac Corporation, these three registrants requested voluntary cancellation of the registrations for their diazinon end-use products that bear directions for indoor use and/or certain outdoor non-agricultural uses, and any other uses that the registrants do not wish to maintain. Pursuant to section 6(f)(1) of the Federal Insecticide, Fungicide, and Rodenticide Act (FIFRA), EPA is announcing the Agency's receipt of these requests.

These requested cancellations and amendments are consistent with the requests in December 2000 by the manufacturers of diazinon technical products, and EPA's approval of such requests, to terminate all indoor uses and certain agricultural uses from their diazinon product registrations because of EPA's concern with the potential exposure risk, especially to children, associated with diazinon containing products. The indoor uses and agricultural uses subject to cancellation are identified in List 1 below:

List 1 of Uses to be Canceled

Indoor uses. Pet collars, or inside any structure or vehicle, vessel, or aircraft or any enclosed area, and/or on any contents therein (except mushroom houses), including but not limited to food/feed handling establishments, greenhouses, schools, residences, commercial buildings, museums, sports facilities, stores, warehouses, and hospitals.

Agricultural uses. Alfalfa, bananas, Bermuda grass, dried beans, dried peas, celery, red chicory (radicchio), citrus, clover, coffee, cotton, cowpeas, cucumbers, dandelions, forestry (ground squirrel/rodent burrow dust stations for public health use), kiwi, lespedeza, parsley, parsnips, pastures, peppers, potatoes (Irish and sweet), sheep, sorghum, squash (winter and summer), rangeland, Swiss chard, tobacco, and turnips (roots and tops).

As mentioned above, the requests announced in this Federal Register notice also include registration cancellations and/or amendments to terminate certain uses that the registrants do not wish to maintain. The specific requests are identified in Tables 1 and 2 of this notice. Furthermore, this notice announces a request that was inadvertently omitted in EPA's May 30, 2001 Federal Register (66 FR 29310) (FRL-6785-2) notice announcing its receipt of a request dated May 17, 2001 by Drexel Chemical Co. (“Drexel”). In the May 30, 2001 notice, EPA announced that Drexel requested voluntary cancellations and/or amendments of its diazinon product registrations to terminate all indoor uses and certain agricultural uses, as identified in List 1 above. However, the Agency inadvertently omitted in that notice Drexel's request to delete outdoor non-agricultural uses from certain diazinon end-use products registrations so that such end-use products would only be labeled for agricultural uses only. The Agency hereby includes that part of Drexel's request in this notice.

EPA has begun the process of reviewing the requested amendments which cannot be finalized until the end of the public comment period and provided that no substantial comments need to be addressed. EPA also intends to grant the requested product and use cancellations by issuing a cancellation order at the close of the comment period for this announcement unless the Agency receives substantive comments within the comment period that would merit its further review of these requests.

B. Requests for Voluntary Cancellation of End-Use Products

Nu-Method Pest Control Products, Lilly Miller Brands and Virbac Corporation have submitted requests for voluntary cancellation of some of its registrations for end-use pesticide products containing diazinon. The end-use product registrations for which cancellation was requested are identified in the following Table 1.

Table 1.—End-Use Product Registration Cancellation Requests
Company | Registration No. | Product
Lilly Miller Brands | 802-444 | Miller's Multi-Use Diazinon Insect Spray
| 802-556 | Lilly Miller 5% Diazinon Granules
Virbac Corporation | 2382-94 | Protection 150 Reflecting Flea and Tick Collar for Cats
| 2382-95 | Protection Plus Flea and Tick Collar for Cats
| 2382-96 | Protection 150 Reflecting Flea and Tick Collar for Dogs
| 2382-97 | Protection Plus 150 Flea and Tick Collar for Dogs
| 2382-98 | Protection 150 Flea and Tick Collar for Cats
| 2382-99 | Protection 150 Flea and Tick Collar for Dogs
| 2382-105 | Protection 300 Flea and Tick Collar for Dogs
Nu-Method Pest Control Products, Inc. | 6911-5 | NU-MRK NU-Method Ant and Roach Killer

Under section 6(f)(1)(A) of FIFRA, registrants may request, at any time, that EPA cancel any of their pesticide registrations. Section 6(f)(1)(B) of FIFRA requires that EPA provide a 30-day period in which the public may comment before the Agency may act on the request for voluntary cancellation. In addition, section 6(f)(1)(C) of FIFRA requires that EPA provide a 180-day comment period on a request for voluntary termination of any minor agricultural use before granting the request, unless: (1) The registrants request a waiver of the comment period, or (2) the Administrator determines that continued use of the pesticide would pose an unreasonable adverse effect on the environment. In this case, all of the registrants have requested that EPA waive the 180-day comment period. In light of this request, EPA is granting the request to waive the 180-day comment period and is providing a 30-day public comment period before taking action on the requested cancellations. Because of risk concerns posed by certain uses of diazinon, EPA intends to grant the requested cancellations at the close of the comment period for this announcement unless the Agency receives any substantive comment within the comment period that would merit its further review of these requests.

C. Requests for Voluntary Amendments to Delete Uses From the Registrations of End-Use Products

Pursuant to section 6(f)(1)(A) of FIFRA, the following companies have submitted a request to amend the registrations of their pesticide end-use products containing diazinon to delete certain uses from certain products. The following Table 2 identifies the registrants, the product registrations that they wish to amend, and the uses that they wish to delete through registration amendments.

Table 2.—End-Use Product Registration Amendment Requests
Company | Registration No. | Product Name: Use Deletions
Prentiss Inc. | 655-456 | Prentox Diazinon 50W Insecticide: Beans (lima, pole, snap; succulent only), Cucumbers, Parsley, Parsnips, Peas (succulent only), Peppers, Potatoes (Irish), Squash (summer and winter), Sweet Potatoes, Swiss Chard, Turnips, Grasslands, Ditch Banks, Roadsides, Wastelands, Non-Crop Areas, Barrier Strips, Lawn Pest Control (excluding sod farms and golf courses), Livestock Insects (sheep ticks Keds and lice), Livestock Structures (fly control in barns and animal sleeping quarters except dairy barns, milk rooms and poultry houses), Residual Sprays, Bait Sprays, Sprinkling Can Application, and Insect Control on Ornamentals Grown Indoors in Nurseries.
| 655-459 | Prentox Diazinon AG500 Insecticide: Beans (lima, pole, snap; succulent only), Cucumbers, Parsley, Parsnips, Peas (succulent only), Peppers, Potatoes (Irish), Squash (summer and winter), Sweet Potatoes, Swiss Chard, Turnips, Grasslands, Ditch Banks, Roadsides, Wastelands, Non-Crop Areas, Barrier Strips, Lawn Pest Control, and Nuisance Pests in Outside Areas.
Agriliance | 9779-210 | Diazinon 4 AG: Beans, Cabbage, Cucumbers, Parsley, Parsnips, Peas, Peppers, Potatoes, Squash (summer and winter), Sweet Potatoes, Swiss Chard, Turnips, and Lawns/Other Outside Areas.
Drexel Chemical Company | 19713-91 | Diazinon Insecticide: Lawns (any turf sites), Barrier Strips, Ditch Banks, Non-Crop Areas, Roadsides, Wastelands, and Nuisance Pests in Outside Areas.
| 19713-492 | Diazinon 50 WP: Lawns (any turf sites), Barrier Strips, Ditch Banks, Non-Crop Areas, Roadsides, Wastelands, and Nuisance Pests in Outside Areas.
Unicorn Laboratories | 28293-199 | Unicorn Diazinon 5G Granules: Celery
| 28293-230 | Unicorn 25EC Diazinon: Almonds
| 28293-239 | Unicorn Diazinon 14G Granular Insecticide:Beans, Cabbage, Celery, Cucumbers, Parsley, Peas, Peppers, Potatoes,Squash, Sweet Potatoes, Swiss Chard, and Turnips
Diall Chemical Company, Inc. | 34822-6 | DI-ALL Paint Insecticide: Farm Buildings (including dairy barns and milk parlors), Warehouses, Office Buildings, Theaters, Schools, Hotels, Motels, Factories and Outbuildings.
Micro-Flo Company | 51036-70 | Diazinon 14 G: Beans, Parsley, Peppers, Irish Potatoes, Squash (winter and summer), Swiss Chard, and Turnips.
| 51036-71 | Diazinon AG 500: Beans, Parsley, Parsnips, Peppers, Potatoes (Irish), Squash (summer and winter), Swiss Chard, Turnips, Livestock Structures, and Lawns.
| 51036-93 | Diazinon 5G AG: Beans, Celery, Cucumber, Parsley, Peas, Peppers, Potatoes, Squash (summer and winter), Sweet Potatoes, Swiss Chard, and Turnips.
| 51036-108 | Diazinon 50 WP: Beans, Parsley, Parsnips, Peppers, Potatoes (Irish), Squash (summer and winter), Swiss Chard, Turnips, Livestock Structures, and Lawns.

Under section 6(f)(1)(A) of FIFRA, registrants may request, at any time, that their pesticide registrations be amended to delete one or more pesticide uses. The aforementioned companies have requested to amend their registrations and have requested that EPA waive the 180-day comment period. In light of this request, EPA is granting the request to waive the 180-day comment period and is providing a 30-day public comment period before taking action on the requested amendments to delete uses. Because of risk concerns posed by certain uses of diazinon, EPA intends to grant the requested amendments to delete uses at the close of the comment period for this announcement, unless the Agency receives any substantive comment within the comment period that would merit its further review of these requests.

III. Proposed Existing Stocks Provisions

EPA received requests for voluntary cancellation of the diazinon registrations identified in Table 1 and requests for amendments to terminate certain uses of the diazinon registrations identified in Table 2. Pursuant to section 6(f) of FIFRA, EPA intends to grant these requests by issuing a cancellation order at the end of the 30-day comment period unless the Agency receives any substantive comment within the comment period that would merit its further review of these requests. In the event that EPA issues a cancellation order, EPA intends to include in that order the existing stocks provisions set forth in this section. For purposes of that cancellation order, the term “existing stocks” will be defined, pursuant to EPA's existing stocks policy (June 26, 1991, 56 FR 29362) (FRL-3846-4), as those stocks of a registered pesticide product which are currently in the United States and which have been packaged, labeled, and released for shipment prior to the effective date of the cancellation or amendment. Any distribution, sale, or use of existing stocks after the effective date of the cancellation order that the Agency intends to issue that is not consistent with the terms of that order will be considered a violation of section 12(a)(2)(K) and/or 12(a)(1)(A) of FIFRA.

EPA Intends that the Cancellation Order Includes the Following Existing Stocks Provisions

1. Distribution or sale of products bearing instructions for use on agricultural crops. The distribution or sale of existing stocks by the registrant of any product listed in Table 2 that bears instructions for use on the agricultural crops identified in List 1 will not be lawful under FIFRA 1 year after the effective date of the cancellation order. Persons other than the registrant may continue to sell or distribute the existing stocks of any product listed in Table 2 that bears instructions for any of the agricultural uses identified in List 1 after the effective date of the cancellation order.

2. Distribution or sale of products bearing instructions for use on outdoor non-agricultural sites. The distribution or sale of existing stocks by the registrant of any product listed in Table 1 or 2 that bears instructions for use on outdoor non-agricultural sites will not be lawful under FIFRA 1 year after the effective date of the cancellation order. Persons other than the registrant may continue to sell or distribute the existing stocks of any product listed in Table 1 or 2 that bears instructions for use on outdoor non-agricultural sites after the effective date of the cancellation order.

3. Distribution or sale of products bearing instructions for use on indoor sites. The distribution or sale of existing stocks by the registrant of any product listed in Table 1 or 2 that bears instructions for use at or on any indoor sites (except mushroom houses), shall not be lawful under FIFRA as of the effective date of the cancellation order.

4. Retail and other distribution or sale of existing stock of products for indoor use. The retail sale of existing stocks by any person other than the registrants of products listed in Table 1 or 2 bearing instructions for any indoor uses except mushroom houses will not be lawful under FIFRA after December 31, 2002.

5. Use of existing stocks. EPA intends to permit the use of existing stocks of products listed in Table 1 or 2 until such stocks are exhausted, provided such use is in accordance with the existing labeling of that product.

List of Subjects

Environmental protection, Pesticides and pests.

Dated: July 19, 2001.
Lois Rossi,
Director, Special Review and Reregistration Division, Office of Pesticide Programs.

[FR Doc. 01-19174 Filed 7-31-01; 8:45 am]

BILLING CODE 6560-50-S